DEPARTMENT OF COMMERCE

Submission for OMB Review; Comment Request

The Department of Commerce will submitted to the Office of Management and Budget (OMB) for clearance the following proposal for collection of information under the provisions of the Paperwork Reduction Act (44 U.S.C. Chapter 35).

Agency: International Trade Administration (ITA).

Title: Special American Business Internship Training (SABIT) Program: Applications and Questionnaires.

OMB Control Number: 0625-0225.

Form Number(s): ITA-4143P-5.

Type of Request: Regular submission.

Burden Hours: 5,875.

Number of Respondents: 2,250

Average Hours Per Response: Application—3 hours; Feedback form—1 hour; and End-of-Internship form—2 hours.

Needs and Uses: The participant applications and feedback (exit) surveys are needed to enable SABIT to find the most qualified people for the training programs and to track the success of the program as regards trade to between the United States and the countries of Eurasia. The information also aids in the improvement of content and administration of the programs.

Affected Public: Foreign nationals residing in Eurasia and U.S. company employees.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov.

Written comments and recommendations for the proposed information collection should be sent within 30 days of publication of this notice to David Rostker, OMB Desk Officer, Fax number (202) 395-7285 or via the Internet at David_Rostker@omb.eop.gov.

Dated: December 18, 2007.
Gwellnar Banks,
Management Analyst, Office of the Chief Information Officer.

[FR Doc. E7-24883 Filed 12-21-07; 8:45 am]

BILLING CODE 3510-HE-P